DEPARTMENT OF DEFENSE

Department of the Navy

Notice of Availability of Inventions for Licensing; Government-Owned Inventions

AGENCY: Department of the Navy, DoD.

ACTION: Notice.

SUMMARY: The inventions listed below are assigned to the United States Government as represented by the Secretary of the Navy and are available for licensing by the Department.

U.S. Patent Application Serial No. 09/266,868 entitled “Adaptive Routing Method for a Dynamic Network” Navy Case No. 80,215.

U.S. Patent Application Serial No. 09/513,245 Navy Case No. 80,244.

Requests for copies of the patent applications cited include the Navy Case number.

FOR FURTHER INFORMATION CONTACT: Catherine M. Cotell, Ph.D., Head, Technology Transfer Office, NRL Code 1004, 4555 Overlook Avenue, S.W., Washington, D.C. 20375-5320, telephone (202) 767-7230.

(Authority: 35 U.S.C. 207, 37 CFR Part 404)

Dated: July 14, 2000.
J.L. Roth,
Lieutenant Commander, Judge Advcoate General's Corps, U.S. Navy, Federal Register Liaison Officer.

[FR Doc. 00-19307 Filed 8-3-00; 8:45 am]

BILLING CODE 3810-FF-P